DEPARTMENT OF ENERGY

Federal Energy Regulatory Commission

Combined Notice of Filings #1

Take notice that the Commission received the following electric rate filings:

Docket Numbers: ER01-989-008.

Applicants: Green Mountain Power Corporation.

Description: Supplemental of Green Mountain Power Corporation to triennial market power update report.

Filed Date: 03/15/2011.

Accession Number: 20110315-5176.

Comment Date: 5 p.m. Eastern Time on Tuesday, April 5, 2011.

Docket Numbers: ER11-2365-000; ER11-2365-001.

Applicants: Paradise Solar Urban Renewal, L.L.C.

Description: Paradise Solar Urban Renewal, L.L.C. Revision to Market Power Analysis.

Filed Date: 03/23/2011.

Accession Number: 20110323-5129.

Comment Date: 5 p.m. Eastern Time on Wednesday, April 13, 2011.

Docket Numbers: ER11-2774-000.

Applicants: Virginia Electric and Power Company, Dominion Energy Marketing, Inc., Dominion Nuclear Connecticut, Inc., Dominion Energy Kewaunee, Inc., Dominion Energy Brayton Point, LLC, Dominion Energy Manchester Street, Inc. Dominion Energy New England, Inc., Dominion Energy Salem Harbor, LLC, Dominion Retail, Inc., Elwood Energy, LLC, Fairless Energy, LLC, Kincaid Generation, L.L.C. NedPower Mt. Storm, LLC, State Line Energy, L.L.C., Fowler Ridge Wind Farm LLC.

Description: Response of the Dominion Companies to the letter dated February 24, 2011 from FERC Staff.

Filed Date: 03/17/2011.

Accession Number: 20110317-5075.

Comment Date: 5 p.m. Eastern Time on Thursday, April 7, 2011.

Docket Numbers: ER11-3053-001.

Applicants: Holcim (US) Inc.

Description: Holcim (US) Inc. submits tariff filing per 35.17(b): Holcim MBRA App Amendment to be effective 5/9/2011.

Filed Date: 03/23/2011.

Accession Number: 20110323-5001.

Comment Date: 5 p.m. Eastern Time on Wednesday, April 13, 2011.

Docket Numbers: ER11-3173-000.

Applicants: Arizona Public Service Company.

Description: Arizona Public Service Company submits tariff filing per 35.13(a)(2)(iii: Rate Schedule No. 217 Amendment to Exhibit B.CAG to be effective 11/15/2010.

Filed Date: 03/23/2011.

Accession Number: 20110323-5002.

Comment Date: 5 p.m. Eastern Time on Wednesday, April 13, 2011.

Docket Numbers: ER11-3174-000.

Applicants: Idaho Power Company.

Description: Idaho Power Company submits tariff filing per 35.13(a)(2)(iii: Imnaha Service Agreement to be effective 4/1/2011.

Filed Date: 03/23/2011.

Accession Number: 20110323-5003.

Comment Date: 5 p.m. Eastern Time on Wednesday, April 13, 2011

Docket Numbers: ER11-3176-000.

Applicants: Midwest Independent Transmission System Operator, Inc.

Description: Midwest Independent Transmission System Operator, Inc. submits tariff filing per 35.13(a)(2)(iii: Cancellation of BREC RR-1 to be effective 3/24/2011.

Filed Date: 03/23/2011.

Accession Number: 20110323-5022.

Comment Date: 5 p.m. Eastern Time on Wednesday, April 13, 2011.

Docket Numbers: ER11-3177-000.

Applicants: Union Leader Corporation.

Description: Union Leader Corporation submits tariff filing per 35.1: Union Leader Baseline Electric Tariff to be effective 3/23/2011.

Filed Date: 03/23/2011.

Accession Number: 20110323-5025.

Comment Date: 5 p.m. Eastern Time on Wednesday, April 13, 2011.

Docket Numbers: ER11-3178-000.

Applicants: The Order of St. Benedict of New Hampshire.

Description: The Order of St. Benedict of New Hampshire submits tariff filing per 35.1: Order of St. Benedict FERC Electric Tariff to be effective 3/23/2011.

Filed Date: 03/23/2011.

Accession Number: 20110323-5026.

Comment Date: 5 p.m. Eastern Time on Wednesday, April 13, 2011.

Docket Numbers: ER11-3179-000.

Applicants: North American Energy Markets Association.

Description: Mid-Continent Energy Marketers Association submits tariff filing per 35.13(a)(2)(iii: Notice of Succession to be effective 2/22/2011.

Filed Date: 03/23/2011.

Accession Number: 20110323-5064.

Comment Date: 5 p.m. Eastern Time on Wednesday, April 13, 2011.

Docket Numbers: ER11-3180-000.

Applicants: Westerly Hospital Energy Company, LLC.

Description: Westerly Hospital Energy Company, LLC submits tariff filing per 35.1: Westerly Hospital FERC Electric Tariff to be effective 3/23/2011.

Filed Date: 03/23/2011.

Accession Number: 20110323-5065.

Comment Date: 5 p.m. Eastern Time on Wednesday, April 13, 2011.

Docket Numbers: ER11-3181-000.

Applicants: Ohio Valley Electric Corporation.

Description: Ohio Valley Electric Corporation submits tariff filing per 35.1: OVEC Inter-Company Power Agreement and OVEC-IKEC Power Agreement to be effective 5/23/2011.

Filed Date: 03/23/2011.

Accession Number: 20110323-5071.

Comment Date: 5 p.m. Eastern Time on Wednesday, April 13, 2011.

Docket Numbers: ER11-3182-000.

Applicants: The Connecticut Light and Power Company.

Description: The Connecticut Light and Power Company submits tariff filing per 35.13(a)(2)(iii: Interconnection Agreement Between CL&P and NRG to be effective 3/13/2011.

Filed Date: 03/23/2011.

Accession Number: 20110323-5078.

Comment Date: 5 p.m. Eastern Time on Wednesday, April 13, 2011.

Docket Numbers: ER11-3183-000.

Applicants: Entergy Arkansas, Inc.

Description: Entergy Arkansas, Inc. submits tariff filing per 35.13(a)(2)(iii: Attachment V Amendments re: On-Peak Hours, etc. to be effective 5/22/2011.

Filed Date: 03/23/2011.

Accession Number: 20110323-5102.

Comment Date: 5 p.m. Eastern Time on Wednesday, April 13, 2011.

Docket Numbers: ER11-3184-000.

Applicants: PJM Interconnection, L.L.C.

Description: PJM Interconnection, L.L.C. submits tariff filing per 35.13(a)(2)(iii: Revisions to Schedule 10-NERC of the PJM Tariff to correct typographical errors to be effective 6/1/2011.

Filed Date: 03/23/2011.

Accession Number: 20110323-5103.

Comment Date: 5 p.m. Eastern Time on Wednesday, April 13, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 24, 2011.
Nathaniel J. Davis, Sr.,
Deputy Secretary.

[FR Doc. 2011-7563 Filed 3-30-11; 8:45 am]

BILLING CODE 6717-01-P